DEPARTMENT OF LABOR

Employment and Training Administration

[TA-W-64,675]

Procter and Gamble Hair Care, LLC, a Subsidiary of Procter and Gamble Including On-Site Leased Workers From Staff Management, Seaton Corp., Horizon Staffing and Hewlett-Packard Company, Stamford, CT; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 29, 2008, applicable to workers of Procter and Gamble Hair Care, LLC, a subsidiary of Procter and Gamble, Stamford, Connecticut. The notice was published in the Federal Register on January 26, 2009 (74 FR 4463). The certification was amended on January 15, 2009 to include on-site leased workers from Staff Management, Seaton Corp. and Horizon Staffing. The notice was published in the Federal Register on February 2, 2009 (74 FR 5868-5869).

At the request of the State agency, the Department reviewed the certification for workers of the subject firm. The workers are engaged in the production of hair colorants.

New information shows that a worker, leased from Hewlett-Packard Company, was employed on-site at the Stamford, Connecticut location of Procter and Gamble Hair Care, LLC, a subsidiary of Procter and Gamble. The Department has determined that this worker was sufficiently under the control of Procter and Gamble Hair Care, LLC to be considered a leased worker.

Based on these findings, the Department is amending this certification to include a worker leased from Hewlett-Packard Company working on-site at the Stamford, Connecticut, location of the subject firm.

The intent of the Department's certification is to include all workers employed at Procter and Gamble Hair Care, LLC, a subsidiary of Procter and Gamble, Stamford, Connecticut, who were adversely affected by a shift in production of hair colorants to Mexico.

The amended notice applicable to TA-W-64,675 is hereby issued as follows:

All workers of Procter and Gamble Hair Care, LLC, a subsidiary of Procter and Gamble, including on-site leased workers from Staff Management, Seaton Corp., Horizon Staffing, and Hewlett-Packard Company, Stamford, Connecticut, who became totally or partially separated from employment on or after December 12, 2007 through December 29, 2010, are eligible to apply for adjustment assistance under Section 223 of the Trade Act of 1974, and are also eligible to apply for alternative trade adjustment assistance under Section 246 of the Trade Act of 1974.

Signed at Washington, DC, this 16th day of September 2009.
Elliott S. Kushner,
Certifying Officer, Division of Trade Adjustment Assistance.

[FR Doc. E9-23906 Filed 10-2-09; 8:45 am]

BILLING CODE 4510-FN-P